DEPARTMENT OF THE TREASURY

United States Mint

Notification of Citizens Coinage Advisory Committee May 2006 Public Meeting

SUMMARY: Pursuant to United States Code, Title 31, section 5135 (b)(8)(C), the United States Mint announces the Citizens Coinage Advisory Committee (CCAC) public meeting scheduled for May 23, 2006.

Date: May 23, 2006.

Time: 10 a.m. to 2 p.m.

Location: The United States Mint; 801 Ninth Street, NW., Washington, DC; Second floor.

Subject: Review of designs for the 2007 First Spouse Bullion Coin Program and other business.

Interested persons should call 202-354-7502 for the latest update on meeting time and room location.

The CCAC was established to:

• Advise the Secretary of the Treasury on any theme or design proposals relating to circulating coinage, bullion coinage, Congressional Gold Medals, and national and other medals.

• Advise the Secretary of the Treasury with regard to the events, persons, or places to be commemorated by the issuance of commemorative coins in each of the five calendar years succeeding the year in which a commemorative coin designation is made.

• Make recommendations with respect to the mintage level for any commemorative coin recommended.

FOR FURTHER INFORMATION CONTACT: Cliff Northup, United States Mint Liaison to the CCAC; 801 Ninth Street, NW., Washington, DC 20220; or call 202-354-7200.

Any member of the public interested in submitting matters for the CCAC's consideration or addressing the CCAC at the Public Forum is invited to submit request and/or materials by fax to the following number: 202-756-6830.

Authority: 31 U.S.C. 5135(b)(8)(C).

Dated: April 19, 2006.
David A. Lebryk,
Deputy Director, United States Mint.

[FR Doc. E6-6138 Filed 4-24-06; 8:45 am]

BILLING CODE 4810-37-P